COMMODITY FUTURES TRADING COMMISSION

Technology Advisory Committee Meeting

This is to give notice, pursuant to Section 10(a) of the Federal Advisory Committee Act, 5 U.S.C. App. 2, 10(a) that the Commodity Futures Trading Commission's Technology Advisory Committee will conduct a public meeting on Wednesday, April 24, 2002. The meeting will take place in the first floor hearing room (Room 1000) of the Commission's Washington, DC, headquarters, Three Lafayette Centre, 1155 21st Street, NW, Washington, DC 20581 from 1 to 4:30 p.m. The purpose of the meeting is to discuss technology-related issues in the financial services and commodity markets.

The agenda will consist of the following:

I. Introduction

II. Cyber Security

III. Developments in Clearing

IV. Final Subcommittee Reports:

A. Standardization

B. Market Access

V. Other Business

The meeting is open to the public. The Chairman of the Advisory Committee, Commissioner Thomas J. Erickson, is empowered to conduct the meeting in a fashion that will, in his judgment, facilitate the orderly conduct of business. Any member of the public who wishes to file a written statement with the Advisory Committee should mail a copy of the statement to the attention of: The Technology Advisory Committee, c/o Commissioner Thomas J. Erickson, Commodity Futures Trading Commission, Three Lafayette Centre, 1155 21st Street, NW., Washington, DC 20581, before the meeting. Members of the public who wish to make oral statements should inform Commissioner Erickson in writing at the foregoing address at least three business days before the meeting. Reasonable provision will be made, if time permits, for an oral presentation of no more than five minutes each in duration.

For further information concerning this meeting, please contact Natalie A. Markman or William Penner at 202-418-5060.

Issued by the Commission in Washington, DC, on April 3, 2002.
Jean A. Webb,
Secretary of the Commission.

[FR Doc. 02-8543 Filed 4-8-02; 8:45 am]

BILLING CODE 6351-01-M